DEPARTMENT OF COMMERCE

National Oceanic and Atmospheric Administration

RIN 0648-XF177

Pacific Island Pelagic Fisheries; Deep-Set Tuna Longline Fisheries

AGENCY: National Marine Fisheries Service (NMFS), National Oceanic and Atmospheric Administration (NOAA), Commerce.

ACTION: Notice of intent to prepare a Programmatic Environmental Impact Statement; rescheduled public meetings; request for comments.

SUMMARY: NMFS, in coordination with the Western Pacific Fishery Management Council (Council), intends to prepare a Programmatic Environmental Impact Statement (PEIS) to analyze the environmental impacts of the continued authorization and management of U.S. Pacific Island deep-set tuna longline fisheries under the Fishery Ecosystem Plan for Pelagic Fisheries of the Western Pacific (FEP) and other applicable laws. The analysis would include certain longline fisheries based in Hawaii, the U.S. west coast, American Samoa, Guam, and the Commonwealth of the Northern Mariana Islands (CNMI). The PEIS is intended to support management of U.S. pelagic longline fisheries.

DATES: See SUPPLEMENTARY INFORMATION section for meeting dates. NMFS must receive comments by April 14, 2017.

ADDRESSES: You may submit comments on this action, identified by NOAA-NMFS-2017-0010, by any of the following methods:

• Electronic Submission: Submit all electronic public comments via the Federal e-Rulemaking Portal. Go to http://www.regulations.gov/docket?D=NOAA-NMFS-2017-0010, click the “Comment Now!” icon, complete the required fields, and enter or attach your comments.

• Mail: Send written comments to Michael D. Tosatto, Regional Administrator, NMFS Pacific Islands Region (PIR), 1845 Wasp Blvd., Bldg. 176, Honolulu, HI 96818.

• Scoping Meeting: Submit written comments at a scoping meeting.

Instructions: You must submit comments by the above methods to ensure that NMFS receives, documents, and considers your comments. NMFS may not consider comments sent by any other method, to any other address or individual, or received after the end of the comment period. NMFS will consider all comments received as part of the public record and will generally post comments for public viewing on www.regulations.gov without change. All personal identifying information (e.g., name, address) submitted voluntarily by the sender will be publicly accessible. Do not submit confidential business information, or otherwise sensitive or protected information. NMFS will accept anonymous comments (enter “N/A” in the required fields if you wish to remain anonymous).

Copies of the FEP, amendments, and previous EISs are available at http://www.regulations.gov/docket?D=NOAA-NMFS-2017-0010.

FOR FURTHER INFORMATION CONTACT: Ariel Jacobs, NMFS, Pacific Islands Regional Office, (808) 725-5182.

SUPPLEMENTARY INFORMATION: NMFS previously published a Notice of Intent (NOI) to prepare a PEIS to analyze the environmental impacts of the continued authorization and management of U.S. Pacific Island deep-set tuna longline fisheries under the FEP and other applicable laws (81 FR 10467, February 13, 2017). You may find details regarding development of the PEIS in that NOI; we do not repeat them here.

The NOI announced public scoping meetings in Hawaii, American Samoa, Guam, and the CNMI. Due to circumstances beyond our control, we are rescheduling the meetings in American Samoa. NMFS will hold public meetings at the dates and locations below. All meetings will be from 6 p.m. to 9 p.m.

1. Fagatogo

Tuesday, March 28, 2017

Fale Tele of the American Samoa Senate (Fono), Senate building, Fagatogo, Pago Pago, AS 96799.

2. Laulii

Wednesday, March 29, 2017

Fale Tele of HTC Vaimaona, Laulii, Pago Pago, AS 96799.

3. Tafuna

Thursday, March 30, 2017

NOAA GMD/PIFSC Compound Tafuna, 8043 Tasi St., Tafuna, AS 96799.

Special Accommodations

NMFS will make every attempt to make these meetings accessible to people with disabilities. Direct any requests for sign language interpretation, physical assistance, or other auxiliary aids to Ariel Jacobs at (808) 725-5182 at least five days prior to the meeting date.

Dated: March 9, 2017.
Karen H. Abrams,
Acting Deputy Director, Office of Sustainable Fisheries, National Marine Fisheries Service.

[FR Doc. 2017-04996 Filed 3-13-17; 8:45 am]

BILLING CODE 3510-22-P